DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 23, 2015.
Roy E. Wright,
Deputy Associate Administrator for Mitigation, Department of Homeland Security, Federal Emergency Management Agency.

State and county | Location and case No. | Chief executive officer of community | Community map repository | Effective date of modification | Community No.
Arkansas: Benton (FEMA Docket No.: B-1458) | City of Rogers (14-06-1977P) | The Honorable Greg Hines, Mayor, City of Rogers, 301 West Chestnut Street, Rogers, AR 72756 | City Hall, 301 West Chestnut Street, Rogers, AR 72756 | February 20, 2015 | 050013
District of Columbia: Washington (FEMA Docket No.: B-1458) | District of Columbia (14-03-2215P) | The Honorable Muriel Bowser, Mayor, District of Columbia, 1350 Pennsylvania Avenue, Northwest, Suite 316, Washington, DC 20004 | Department of the Environment, 1200 1st Street, Northeast, 5th Floor, Washington, DC 20002 | March 4, 2015 | 110001
Maryland: Montgomery (FEMA Docket No.: B-1458) | Unincorporated areas of Montgomery County (13-03-1642P) | The Honorable Isiah Leggett, Montgomery County Executive, 101 Monroe Street, 2nd Floor, Rockville, MD 20850 | Montgomery County Department of Permitting Services, 255 Rockville Pike, 2nd Floor, Rockville, MD 20850 | March 2, 2015 | 240049
Massachusetts:
Middlesex (FEMA Docket No.: B-1458) | City of Lowell (14-01-1641P) | Mr. Kevin J. Murphy, Manager, City of Lowell, 375 Merrimack Street, 2nd Floor, Room 43, Lowell, MA 01852 | City Hall, 375 Merrimack Street, Lowell, MA 01852 | February 20, 2015 | 250201
Middlesex (FEMA Docket No.: B-1458) | Town of Chelmsford (14-01-1641P) | The Honorable Patricia Wojtas, Chairman, Chelmsford Town Board of Selectmen, 50 Billerica Road, 2nd Floor, Chelmsford, MA 01824 | Town Hall, 50 Billerica Road, Chelmsford, MA 01824 | February 20, 2015 | 250188
New York:
Dutchess (14-02-0532P) (FEMA Docket No.: B-1444) | Town of Beekman (14-02-0532P) | The Honorable Barbara Zulauf, Supervisor, Town of Beekman, 4 Main Street, Poughquag, NY 12570 | Beekman Town Hall, 4 Main Street, Poughquag, NY 12570 | March 2, 2015 | 361333
Rockland (FEMA Docket No.: B-1444) | Town of Clarkstown (14-02-1889P) | The Honorable Alexander J. Gromack, Supervisor, Town of Clarkstown, 10 Maple Avenue, New City, NY 10956 | Clarkstown Town Hall, 10 Maple Avenue, New City, NY 10956 | February 18, 2015 | 360679
Texas:
Bexar (FEMA Docket No.: B-1458) | City of San Antonio (13-06-2738P) | The Honorable Ivy R. Taylor, Mayor, City of San Antonio, P.O. Box 839966, San Antonio, TX 78283 | Transportation and Capital Improvements Department, Storm Water Division, 1901 South Alamo Street, 2nd Floor, San Antonio, TX 78204 | March 2, 2015 | 480045
Bexar (FEMA Docket No.: B-1458) | City of San Antonio (14-06-0171P) | The Honorable Ivy R. Taylor, Mayor, City of San Antonio, P.O. Box 839966, San Antonio, TX 78283 | Transportation and Capital Improvements Department, Storm Water Division, 1901 South Alamo Street, 2nd Floor, San Antonio, TX 78204 | March 2, 2015 | 480045
Bexar (FEMA Docket No.: B-1458) | Unincorporated areas of Bexar County (14-06-0171P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | March 2, 2015 | 480035
Bexar (FEMA Docket No.: B-1458) | Unincorporated areas of Bexar County (14-06-3173P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | March 4, 2015 | 480035
Collin (FEMA Docket No.: B-1467) | City of Plano (14-06-0359P) | The Honorable Harry LaRosiliere, Mayor, City of Plano, 1520 K Avenue, Plano, TX 75074 | Department of Engineering, 1520 K Avenue, Plano, TX 75074 | March 20, 2015 | 480140
Comal (FEMA Docket No.: B-1458) | City of New Braunfels (13-06-4372P). | The Honorable Barron Casteel, Mayor, City of New Braunfels, 424 South Castell Avenue, New Braunfels, TX 78130 | Municipal Building, 424 South Castell Avenue, New Braunfels, TX 78130 | February 26, 2015 | 485493
Dallas (FEMA Docket No.: B-1458) | City of Rowlett (14-06-2443P) | The Honorable Todd W. Gottel, Mayor, City of Rowlett, 4000 Main Street, Rowlett, TX 75088 | Development Services Building, 3901 Main Street, Rowlett, TX 75088 | March 13, 2015 | 480185
Dallas and Denton (FEMA Docket No.: B-1467) | City of Coppell (14-06-2759P) | The Honorable Karen Hunt, Mayor, City of Coppell, P.O. Box 9478, Coppell, TX 75019 | Engineering Department, 265 Parkway Boulevard, Coppell, TX 75019 | March 19, 2015 | 480170
Ellis (FEMA Docket No.: B-1467) | City of Midlothian (14-06-1375P) | The Honorable Bill Houston, Mayor, City of Midlothian, 104 West Avenue E, Midlothian, TX 76065 | City Hall, 104 West Avenue E, Midlothian, TX 76065 | March 5, 2015 | 480801
El Paso (FEMA Docket No.: B-1458) | Unincorporated areas of El Paso County, (13-06-3651P) | The Honorable Veronica Escobar, El Paso County Judge, 500 East San Antonio Street, Suite 301, El Paso, TX 79901 | El Paso County Public Works Department, 800 East Overland Avenue, Suite 407, El Paso, TX 79901 | March 4, 2015 | 480212
Garland (FEMA Docket No.: B-1467) | City of Gonzales (14-06-1672P) | The Honorable Robert A. Logan, Mayor, City of Gonzales, 820 St. Joseph Street, Gonzales, TX 78629 | 820 St. Joseph Street, Gonzales, TX 78629 | March 25, 2015 | 480254
Kendall (FEMA Docket No.: B-1458) | Unincorporated areas of Kendall County (14-06-1363P) | The Honorable Darrel L. Lux, Kendall County Judge, 201 East San Antonio Avenue, Suite 122, Boerne, TX 78006 | Kendall County Development and Floodplain Management Office, 201 East San Antonio Avenue, Suite 101, Boerne, TX 78006 | February 17, 2015 | 480417
Tarrant (FEMA Docket No.: B-1467) | City of Bedford (14-06-2009P) | The Honorable Jim Griffin, Mayor, City of Bedford, 2000 Forest Ridge Drive, Bedford, TX 76021 | Public Works Department, 1813 Reliance Parkway, Bedford, TX 76021 | March 19, 2015 | 480585
Tarrant (FEMA Docket No.: B-1467) | City of Fort Worth (14-06-2425P) | The Honorable Betsy Price, Mayor, City of Fort Worth, 1000 Throckmorton Street, Fort Worth, TX76102 | City Hall, 1000 Throckmorton Street, Fort Worth, TX 76102 | March 6, 2015 | 480596
Williamson (FEMA Docket No.: B-1458) | City of Georgetown (13-06-1572P) | The Honorable Dale Ross, Mayor, City of Georgetown, 113 East 8th Street, Georgetown, TX 78626 | City Hall, 113 East 8th Street, Georgetown, TX 78626 | February 26, 2015 | 480668
Williamson (FEMA Docket No.: B-1458) | City of Round Rock (14-06-2866P) | The Honorable Alan McGraw, Mayor, City of Round Rock, 221 East Main Street, Round Rock, TX 78664 | Department of Utilities and Environmental Services, 2008 Enterprise Drive, Round Rock, TX 78664 | March 13, 2015 | 481048

[FR Doc. 2015-11840 Filed 5-14-15; 8:45 am]

BILLING CODE 9110-12-P